DEPARTMENT OF HEALTH AND HUMAN SERVICES

Administration for Children and Families

Submission for OMB Review; Trafficking Victim Assistance Program Data Collection (OMB #0970-0467)

AGENCY: Office on Trafficking in Persons; Administration for Children and Families; HHS.

ACTION: Request for public comment.

SUMMARY: The Office on Trafficking in Persons (OTIP), Administration for Children and Families (ACF), U.S. Department of Health and Human Services (HHS), is requesting to reinstate a previously approved information collection with revisions to information collected on clients enrolled in the Trafficking Victim Assistance Grant Program.

DATES: Comments due within 30 days of publication. OMB is required to make a decision concerning the collection of information between 30 and 60 days after publication of this document in the Federal Register. Therefore, a comment is best assured of having its full effect if OMB receives it within 30 days of publication.

ADDRESSES: Written comments and recommendations for the proposed information collection should be sent directly to the following: Office of Management and Budget, Paperwork Reduction Project, Email: OIRA_SUBMISSION@OMB.EOP.GOV, Attn: Desk Officer for the Administration for Children and Families.

Copies of the proposed collection may be obtained by emailing infocollection@acf.hhs.gov. Alternatively, copies can also be obtained by writing to the Administration for Children and Families, Office of Planning, Research, and Evaluation, 330 C Street SW, Washington, DC 20201, Attn: OPRE Reports Clearance Officer. All requests, emailed or written, should be identified by the title of the information collection.

SUPPLEMENTARY INFORMATION:

Description: OTIP awards cooperative agreements for grantees to provide case management services to foreign national victims of a severe form of trafficking in persons who have received or are actively pursuing HHS Certification or Eligibility and their qualified family members (e.g., minor dependent children of victims or family members with derivative T visas), as authorized in the Trafficking Victims Protection Act of 2000 (22 U.S.C. 7105(b)(1)(B)). Grantees provide services to qualified persons through a national network of subrecipient organizations.

OTIP proposes to collect information to measure grant project performance, provide technical assistance to grantees, assess program outcomes, improve program evaluation, respond to congressional inquiries and mandated reports, and inform policy and program development that is responsive to the needs of victims.

The information collection captures information on participant demographics (e.g., age, sex, and country of origin), types of trafficking experienced (sex, labor, or both), types of client enrollment, types of services and benefits provided along with aggregate information on the amount of money spent on each type of service provided, the types of entities providing medical services, the amount of money provided to those entities, the amount of money expended on each type of client enrollment, types of partnerships developed through the grant with subrecipients, and the types of training and technical assistance provided to subrecipient organizations or other partners.

Respondents: Trafficking Victim Assistance Program Grantees.

Annual Burden Estimates
Instrument | Total number of respondents | Annual number of respondents | Number of responses per respondent | Average burden hours per response | Annual burden hours
Client Characteristics and Enrollment Form | 3,300 | 1,100 | 1 | 1 | 1,100
Client Service Use and Delivery Form | 3,300 | 1,100 | 1 | .25 | 275
Client Case Closure Form | 3,300 | 1,100 | 1 | .167 | 183.7
Barriers to Service Delivery and Monitoring Form | 261 | 261 | 15 | .167 | 217.935
TVAP Spending Form | 261 | 261 | 3 | .75 | 195.75
Partnership Development Enrollment Form | 1 | 1 | 261 | .25 | 21.75
Partnership Development Exit form | 1 | 1 | 261 | .083 | 7.221
Training Form | 1 | 1 | 12 | .5 | 2
Technical Assistance Form | 1 | 1 | 12 | .5 | 2

Estimated Total Annual Burden Hours: 2,005.

Authority: 22 U.S.C. 7105.

Mary B. Jones,
ACF/OPRE Certifying Officer.

[FR Doc. 2019-21759 Filed 10-4-19; 8:45 am]

BILLING CODE 4184-47-P